DEPARTMENT OF TRANSPORTATION

Federal Highway Administration

23 CFR Part 470

Highway Systems

CFR Correction

This rule is being published by the Office of the Federal Register to correct an editorial or technical error that appeared in the most recent annual revision of the Code of Federal Regulations.

In Title 23 of the Code of Federal Regulations, revised as of April 1, 2024, in Appendix C to Subpart A of Part 470, remove the section “Sign Details”.

[FR Doc. 2025-04922 Filed 3-20-25; 8:45 am]

BILLING CODE 0099-10-D